DEPARTMENT OF THE INTERIOR

Invasive Species Advisory Committee; Meeting

AGENCY: Office of the Secretary, Interior.

ACTION: Notice of public meetings of the Invasive Species Advisory Committee.

SUMMARY: Pursuant to the provisions of the Federal Advisory Committee Act, notice is hereby given of meetings of the Invasive Species Advisory Committee (ISAC). Comprised of 25 nonfederal invasive species experts and stakeholders from across the nation, the purpose of the Advisory Committee is to provide advice to the National Invasive Species Council, as authorized by Executive Order 13112, on a broad array of issues related to preventing the introduction of invasive species and providing for their eradication and control. The Council is co-chaired by the Secretary of the Interior, the Secretary of Agriculture, and the Secretary of Commerce. The duty of the Council is to provide national leadership regarding invasive species issues.

Purpose of Meeting: To convene the full ISAC and to provide expert input and recommendations to NISC federal agencies and their partners on invasive species matters of national importance. While in session, ISAC will continue work on NISC priority initiatives through subcommittees (task teams) focused on: (a) Strengthening Federal/State coordination; (b) strengthening Federal/Tribal coordination; (c) identifying risks and opportunities for the application of advanced biotechnologies for the eradication or control of invasive species; (d) compiling case studies of invasive species that impact infrastructure; and, (e) compiling case studies of invasive species that impact wildlife health. Two additional task teams will be tentatively instituted to explore managed relocation policy and practice from an invasive species perspective, as well as the movement of watercraft. The meeting agenda is available on the NISC Web site at http://www.invasivespecies.gov. Supplemental reference materials will be posted on or about Tuesday, November 22, 2016.

DATES: Meeting of the Invasive Species Advisory Committee: Tuesday, December 6, 2016: 8:30 a.m. to 5:00 p.m.; Wednesday, December 7, 2016: 8:30 a.m. to 5:30 p.m.; Thursday, December 8, 2016; 8:00 a.m.-12:00 p.m.

ADDRESSES: Smithsonian Institution National Museum of the American Indian, 4th and Independence Avenue SW., Washington, DC 20560. The general session will be held in the Conference Center (4th Floor). Note: All meeting participants and interested members of the public must register their attendance online at https://goo.gl/forms/K1kYHgeuqf15zAik2. Attendees must pass through security screening upon entering the facility.

FOR FURTHER INFORMATION CONTACT: Kelsey Brantley, National Invasive Species Council Program Specialist and ISAC Coordinator, Phone: (202) 208-4122; Fax: (202) 208-4118, email: Kelsey_Brantley@ios.doi.gov.

Dated: November 14, 2016.
Jamie K. Reaser,
Executive Director, National Invasive Species Council (NISC) Secretariat.

[FR Doc. 2016-27704 Filed 11-17-16; 8:45 am]

BILLING CODE 4334-63-P